DEPARTMENT OF COMMERCE

International Trade Administration

[A-570-965]

Drill Pipe From the People's Republic of China: Notice of Court Decision Not in Harmony With Final Determination of Sales at Less Than Fair Value and Notice of Amended Final Determination of Sales at Less Than Fair Value Pursuant to Court Decision

AGENCY: Enforcement and Compliance, formerly Import Administration, International Trade Administration, Department of Commerce

SUMMARY: On November 4, 2013, the United States Court of International Trade (“Court” or “CIT”) issued its final judgment in Downhole Pipe v. United States,¹ sustaining the Department of Commerce's (Department) Remand Results.² Consistent with the decision of the United States Court of Appeals for the Federal Circuit (“Federal Circuit”) in Timken Co., v. United States, 893 F.2d 337 (Fed. Cir. 1990) (“Timken”), as clarified by Diamond Sawblades Mfrs. Coalition v. United States, 626 F.3d 1374 (Fed. Cir. 2010) (“Diamond Sawblades”), the Department is notifying the public that the final CIT judgment in this case is not in harmony with the Department's Final Determination ³ and is amending the Final Determination with respect to the surrogate values (“SV”) for drill pipe green tubes and the labor wage rate in the less-than-fair-value investigation.

¹ Downhole Pipe & Equipment, LP, and DP-Master Manufacturing Co., Ltd., v. United States, and VAM Drilling USA, Texas Steel Conversion, Inc., Rotary Drilling Tools, TMK IPSCO, and U.S. Steel Corp., Court No. 1-00081, Slip Op. 13-134 (November 4, 2013) (“Downhole Pipe v. United States”).

² See Final Results of Redetermination Pursuant to Court Remand: Drill Pipe from the People's Republic of China Downhole Pipe & Equip LP, v. United States, Court No. 11-00081, Slip op. 12-141 (CIT 2012), dated May 13, 2013 (“Remand Results”).

³ See Drill Pipe From the People's Republic of China: Final Determination of Sales at Less Than Fair Value and Critical Circumstances, 76 FR 1966 (January 11, 2011) (“Final Determination”).

DATES: Effective Date: November 14, 2013.

FOR FURTHER INFORMATION CONTACT: Alexander Montoro, AD/CVD Operations, Office V, Enforcement and Compliance, International Trade Administration, Department of Commerce, 14th Street and Constitution Avenue NW., Washington, DC 20230; telephone: (202) 482-0238.

SUPPLEMENTARY INFORMATION: On May 13, 2013, the Department filed the Remand Results, in which the Department selected Indian imports under HTS 7304.59.20 as the SV for drill pipe green tube. In addition, the Department revised the labor wage rate and applied the wage rate methodology from Labor Methodologies.⁴ On November 4, 2013, the Court sustained the Department's Remand Results.⁵

⁴ 1 See Dorbest, Ltd. v. United States, 604 F.3d 1363, 1372 (Fed. Cir. 2010) (“Dorbest”); see also Antidumping Methodologies in Proceedings Involving Non-Market Economies: Valuing the Factor of Production: Labor, 76 FR 36092 (June 21, 2011) (“Labor Methodologies”).

⁵ See Downhole Pipe v. United States.

Timken Notice

In its decision in Timken, 893 F.2d at 341, as clarified by Diamond Sawblades, the Federal Circuit has held that, pursuant to section 516A(e) of the Tariff Act of 1930, as amended (“the Act”), the Department must publish a notice of a court decision not “in harmony” with a Department determination, and must suspend liquidation of entries pending a “conclusive” court decision. The Court's November 4, 2013, judgment constitutes a final decision of the Court that is not in harmony with the Department's Final Determination. This notice is published in fulfillment of the publication requirement of Timken. Accordingly, the Department will continue the suspension of liquidation of the subject merchandise pending the expiration of the period of appeal, or if appealed, pending a final and conclusive court decision. Since the Final Determination, the Department has recalculated the normal values to reflect these changes and, as a result of this redetermination, the antidumping duty cash deposit rate for DP-Master Co. Ltd., is 149.36 percent.

Amended Final Determination

Because there is now a final court decision, we are amending the Final Determination. As a result of this redetermination, the antidumping duty cash deposit rate for DP-Master Co. Ltd., is 149.36 percent and we will instruct U.S. Customs and Border Protection accordingly. This notice is issued and published in accordance with sections 516A(e)(1), 735, and 777(i)(1) of the Act.

Dated: November 13, 2013.
Ronald K. Lorentzen,
Acting Assistant Secretary for Enforcement and Compliance.

[FR Doc. 2013-27829 Filed 11-19-13; 8:45 am]

BILLING CODE 3510-DS-P